DEPARTMENT OF ENERGY

Federal Energy Regulatory Commission

18 CFR Part 389

[Docket No. RM21-20-000; Order No. 878]

OMB Control Numbers for Commission Information Collection Requirements

AGENCY: Federal Energy Regulatory Commission, Department of Energy.

ACTION: Final rule.

SUMMARY: The Federal Energy Regulatory Commission amends its regulations to provide that Office of Management and Budget control numbers for Commission information collection requirements will be available on the Commission's website.

DATES: This rule will become effective December 3, 2021.

FOR FURTHER INFORMATION CONTACT: Mark Hershfield, Office of the General Counsel, 888 First Street NE, Washington, DC 20426, (202) 502-8597, mark.hershfield@ferc.gov.

SUPPLEMENTARY INFORMATION:

I. Introduction

1. Pursuant to the Paperwork Reduction Act of 1995 ¹ and Office of Management and Budget's (OMB) implementing regulations at 5 CFR Part 1320, the Commission is required to display OMB control numbers and expiration dates of those control numbers on Commission information collections and forms. The Commission also provides OMB control numbers in its regulations at 18 CFR 389.101. This rule amends that regulation by providing that OMB control numbers for Commission information collections will henceforth no longer be provided in the Commission's regulations but instead will be provided on the Commission's website.

¹ 44 U.S.C. 3501.

II. Discussion

2. The purpose of this rule is to ensure that the public has the most current OMB control numbers for Commission information collections. Providing the OMB control numbers on the Commission's website is the most efficient and timely way to provide that information to the public. Therefore, rather than continually revising 18 CFR 389.101, the Commission will henceforth provide the public with the most up-to-date information on OMB control numbers at the Information Collections page at https://www.ferc.gov (https://www.ferc.gov/enforcement-legal/legal/information-collections). This rule accordingly revises 18 CFR 389.101 to direct the public to the Commission's website for OMB control numbers for Commission information collections.

III. Information Collection Statement

3. OMB approves certain information collection requirements imposed by agency rule.² However, this rule does not contain any new or additional information collection requirements. Therefore, compliance with OMB's regulations is not required.

² 5 CFR 1320.12.

IV. Environmental Analysis

4. The Commission is required to prepare an Environmental Assessment or an Environmental Impact Statement for any action that may have a significant adverse effect on the human environment.³

³ Regulations Implementing the National Environmental Policy Act, Order No. 486, 52 FR 47897, FERC Stats. & Regs. ¶ 30,783 (Dec. 17, 1987).

5. Part 380 of the Commission's regulations lists exemptions to the requirement to draft an Environmental Analysis or Environmental Impact Statement. Included is an exemption for procedural, ministerial, or internal administrative actions.⁴ Accordingly, this rulemaking is exempt from the requirement to draft such documents under that provision.

⁴ 18 CFR 380.4(a)(1).

V. Regulatory Flexibility Act

6. The Regulatory Flexibility Act of 1980 (RFA) ⁵ generally requires a description and analysis of final rules that will have a significant economic impact on a substantial number of small entities. This rule concerns a modification of current Commission regulations and practices, by directing the public to where OMB control numbers are located. The Commission certifies that it will not have a significant economic impact upon participants in Commission proceedings. An analysis under the RFA is therefore not required.

⁵ 5 U.S.C. 601-12. rule.

VI. Document Availability

7. In addition to publishing the full text of this document in the Federal Register, the Commission provides all interested persons an opportunity to view and/or print the contents of this document via the Internet through the Commission's Home Page (http://www.ferc.gov). At this time, the Commission has suspended access to the Commission's Public Reference Room due to the President's March 13, 2020 proclamation declaring a National Emergency concerning the Novel Coronavirus Disease (COVID-19).

8. The full text of this document is available on the Commission's Home Page, on eLibrary in PDF and Microsoft Word format for viewing, printing, and/or downloading. To access this document in eLibrary, type the docket number excluding the last three digits of this document in the docket number field.

9. User assistance is available for eLibrary and the Commission's website during normal business hours from FERC Online Support at (202) 502-6652 (toll free at 1-866-208-3676) or email at ferconlinesupport@ferc.gov, or the Public Reference Room at (202) 502-8371, TTY (202) 502-8659. Email the Public Reference Room at public.referenceroom@ferc.gov.

VII. Effective Date

10. The Commission is issuing this rule as a final rule without a period for public comment. Under 5 U.S.C. 553(b)(3)(A), notice-and-comment rulemaking procedures are unnecessary for “rules of agency organization, procedure, or practice.” This rule is therefore exempt from notice-and-comment rulemaking procedures, because it concerns the Commission's procedures and practices. In particular, the rule alters the means by which the Commission will provide the control numbers assigned by OMB to the Commission's information collection requirements. The rule will not significantly affect regulated entities or the general public.

11. This rule is effective December 3, 2021.

List of Subjects in 18 CFR Part 389

Reporting and recordkeeping requirements.

By the Commission.
Issued:
Debbie-Anne A. Reese,
Deputy Secretary.

In consideration of the foregoing, the Commission amends part 385, chapter I, title 18, Code of Federal Regulations, as follows:

PART 389—OMB CONTROL NUMBERS FOR COMMISSION INFORMATION COLLECTION REQUIREMENTS

1. The authority citation for part 389 continues to read as follows:

Authority: 44 U.S.C. 3501-3520.

2. Revise § 389.101 to read as follows:

§ 389.101 OMB control numbers assigned pursuant to the Paperwork Reduction Act.

This part concerns Office of Management and Budget (OMB) control numbers assigned to information collection requirements. Current OMB control numbers are available at https://www.ferc.gov. For the most current information, interested persons should consult the Commission's website under “Enforcement Legal” and then “Legal” and then “Information Collections” or directly at https://www.ferc.gov/enforcement-legal/legal/information-collections.

[FR Doc. 2021-21153 Filed 10-1-21; 8:45 am]

BILLING CODE 6717-01-P